DEPARTMENT OF COMMERCE

International Trade Administration

[A-588-046]

Notice of Final Results of Changed Circumstances Antidumping Duty Administrative Review: Polychloroprene Rubber From Japan

AGENCY: Import Administration, International Trade Administration, Department of Commerce.

ACTION: Notice of final results of changed circumstances antidumping duty administrative review.

SUMMARY: On November 21, 2001, the Department of Commerce (the Department) published a notice of initiation and preliminary results of a changed circumstances review of the antidumping duty finding on polychloroprene rubber from Japan. See Notice of Initiation and Preliminary Results of Changed Circumstances Antidumping Duty Administrative Review: Polychloroprene Rubber From Japan, 66 FR 58436 (November 21, 2001) (Preliminary Results). We have now completed that review. For these final results, as in the Preliminary Results, we have determined that the restructured manufacturing and marketing joint ventures, Showa DDE Manufacturing KK (SDEM) and DDE Japan Kabushiki Kaisha (DDE Japan), are the successor-in-interest companies to Dupont Showa Denko (SDP) and its predecessor, Showa Neoprene, for purposes of determining antidumping liability in this proceeding.

EFFECTIVE DATE: January 2, 2002.

FOR FURTHER INFORMATION CONTACT: Ron Trentham or Tom Futtner, AD/CVD Enforcement, Group II, Office 4, Import Administration, International Trade Administration, U.S. Department of Commerce, 14th Street and Constitution Avenue, NW., Washington, DC 20230; telephone (202) 482-6320 or (202) 482-3814, respectively.

SUPPLEMENTARY INFORMATION

The Applicable Statute and Regulations

Unless otherwise stated, all citations to the Tariff Act of 1930, as amended (the Act), are references to the provisions as of January 1, 1995, the effective date of the amendments made to the Act by the Uruguay Round Agreements Act (URAA). In addition, unless otherwise indicated, all references to the regulations of the Department are to 19 CFR part 351 (2001).

Background

In a letter dated September 27, 2001, DuPont Dow Elastomers L.L.C. (Dupont Dow) and DDE Japan advised the Department that in 1998, SDP was restructured. The production portion of SDP was renamed SDEM. Further, the marketing end of SDP's business was separated from SDEM and renamed DDE Japan. According to Dupont Dow and DDE Japan, these entities were renamed to reflect Dupont Dow's participation in the joint ventures and to make the companies more globally competitive. Nevertheless, like SDP and similar to Showa Neoprene, the two firms, SDEM and DDE Japan, remained jointly owned ventures of Dupont Dow and Showa Denko KK.

On November 21, 2001, the Department published a notice of initiation and preliminary results of a changed circumstances review of the antidumping duty finding on polychloroprene rubber from Japan. See Preliminary Results. Interested parties were invited to comment on the preliminary results. On December 11, 2001, Dupont Dow Elastomers L.L.C. and DDE Japan Kabushiki Kaisha submitted comments. See Comments section below.

Scope of Review

Imports covered by this review are shipments of polychloroprene rubber, an oil resistant synthetic rubber also known as polymerized chlorobutadiene or neoprene, currently classifiable under items 4002.42.00, 4002.49.00, 4003.00.00, 4462.15.21 and 4462.00.00 of the Harmonized Tariff Schedule of the United States (HTSUS). HTSUS item numbers are provided for convenience and for U.S. Customs Service purposes. The written descriptions remain dispositive.

Successorship

In making a successor-in-interest determination, the Department examines several factors including, but not limited to, changes in: (1) Management; (2) production facilities; (3) supplier relationships; and (4) customer base. See Brass Sheet and Strip from Canada: Notice of Final Results of Antidumping Administrative Review, 57 FR 20460, 20462 (May 13, 1992) (Canadian Brass). While no one or several of these factors will necessarily provide a dispositive indication, the Department will generally consider the new company to be the successor to the previous company if its resulting operation is not materially dissimilar to that of its predecessor. See, e.g., Industrial Phosphoric Acid from Israel: Final Results of Changed Circumstances Review, 59 FR 6944, 6945 (February 14, 1994) and Canadian Brass, 57 FR 20460. Therefore, if the evidence demonstrates that, with respect to the production and sale of the subject merchandise, the new company essentially operates as the same business entity as the former company, the Department will assign the new company the cash deposit rate of its predecessor.

We have examined the information provided by Dupont Dow and DDE Japan in their September 27, 2001 letter and determined that SDEM and DDE Japan are the successor-in-interest companies to SDP and its predecessor, Showa Neoprene. The management, production facilities, supplier relationships, sales facilities and customer base are essentially unchanged from those of SDP, and before that, Showa Neoprene. Therefore, we determine that the new joint venture entities essentially operate in the same manner as the predecessor companies of SDP and Showa Neoprene.

Final Results of Review

Based on our analysis in the Preliminary Results, we find that effective January 1, 1998, the restructured manufacturing and marketing joint ventures, SDEM and DDE Japan, are the successor-in-interest companies to Dupont Showa Denko (SDP) and its predecessor, Showa Neoprene. Further, SDEM and DDE Japan should be given the same antidumping duty treatment as SDP and its predecessor, Showa Neoprene, i.e., zero percent antidumping duty cash deposit rate.

Comment: Successorship Effective Date

DuPont Dow and DDE Japan state that the final determination should explicitly indicate that, according to the facts on the record, SDEM and DDE Japan became the successor-in-interest companies to SDP and its predecessor, Showa Neoprene, effective January 1, 1998. Department's Position: We agree with DuPont Dow and DDE Japan and the effective date of January 1, 1998 is reflected in the Final Results of Review section below.

Cash Deposit

The cash deposit determination from this changed circumstances review will apply to all entries of the subject merchandise entered, or withdrawn from warehouse, for consumption on or after the date of publication of the final results of this changed circumstances review. This deposit rate shall remain in effect until publication of the final results of the next relevant administrative review. We will instruct the U.S. Customs Service accordingly.

Notification

This notice also serves as a final reminder to parties subject to administrative protective orders (APOs) of their responsibility concerning the disposition of proprietary information disclosed under APO in accordance with 19 CFR 351.305(a)(3). Failure to timely notify the Department in writing of the return/destruction of APO material is a sanctionable violation.

We are issuing these final results and notice in accordance with sections 751(b)(1) and 777(i)(1) of the Act and Sec. 351.216 of the Department's regulations.

Dated: December 21, 2001.
Faryar Shirzad,
Assistant Secretary for Import Administration.

[FR Doc. 01-32244 Filed 12-31-01; 8:45 am]

BILLING CODE 3510-DS-P